DEPARTMENT OF ENERGY

Office of Fossil Energy; National Coal Council

AGENCY: Department of Energy.

ACTION: Notice of open meeting.

SUMMARY: This notice announces a meeting of the National Coal Council. Federal Advisory Committee Act (Public Law 92-463, 86 Stat. 770) requires notice of these meetings be announced in the Federal Register.

DATES: Tuesday, December 13, 2005, 9 a.m. to 12 noon.

ADDRESSES: Wyndham Washington Hotel, 1400 M Street, NW., Washington, DC.

FOR FURTHER INFORMATION CONTACT: Mr. Robert Kane, Phone: (202) 586-4753, or Ms. Estelle W. Hebron, Phone: (202) 586-6837, U.S. Department of Energy, Office of Fossil Energy, Washington, DC 20585.

SUPPLEMENTARY INFORMATION: Purpose of the Committee: The purpose of the National Coal Council is to provide advice, information, and recommendations to the Secretary of Energy on matters relating to coal and coal industry issues:

Tentative Agenda:

• Call to Order by Mr. Thomas G. Kraemer, Chairman.

• Remarks by Mr. Clay Sell, Deputy Secretary of Energy.

• Presentation of Guest Speaker re: The New Energy Act—The Honorable Larry Craig, Senate Committee on Energy and Natural Resources (invited).

• Council Business.

Communications Committee report—Mr. David Surber, Chair.

Finance Committee Report—Mr. Rich Eimer, Chairman.

Discussion re new Education Committee—Barbara Altizer/Bob Beck.

Status Report on New Study—Fred Palmer.

• Presentation of Guest Speaker re: Integrated Gasification Combined Cycle: Decision Making, Planning & Execution—Mr. Michael J. Mudd, AEP.

• Presentation of Guest Speaker re: Hydrogen and the Transportation Infrastructure—Dr. Joan Ogden, University of California/Davis.

• Presentation of Guest Speaker re: Bioremediation of Coal Mining Water Discharges—Ms. Terry Ruth, lambda Bioremediation Systems, Inc.

• Presentation of Guest Speaker re: Mercury Emissions Control and Electricity Generation Plants—Dr. Carl Hensman, Frontier Geosciences, Inc.

• Presentation of Guest Speaker re: SO2 Allowances-Pricing and Availability—(TBA).

• Other Business.

• Adjourn.

Public Participation: The meeting is open to the public. The Chairman of the NCC will conduct the meeting to facilitate orderly business. If you would like to file a written statement with the Committee, you may do so either before or after the meeting. If you would like to make oral statements regarding any of the items on the agenda, you should contact Mr. Robert Kane or Ms. Estelle Hebron at the address and telephone numbers listed above. You must make your request for an oral statement at lease five business days prior to the meeting, and reasonable provisions will be made to include the presentation on the agenda. Public comment will follow the 10 minute rule.

Minutes: The minutes will be available for public review and copying within 30 days at the Freedom of Information Public Reading Room, 1E-190, Forrestal Building, 1000 Independence Avenue, SW., Washington, DC, between 9 a.m. and 4 p.m., Monday through Friday, except Federal holidays.

Issued in Washington, DC, on November 15, 2005.
Carol Matthews,
Acting Advisory Committee Management Officer.

[FR Doc. 05-23116 Filed 11-21-05; 8:45 am]

BILLING CODE 6450-01-P